FEDERAL COMMUNICATIONS COMMISSION

47 CFR Part 73

[DA 07-42; MB Docket No. 05-79; RM-10983, RM-11247]

Radio Broadcasting Services; Opelika and Waverly, AL

AGENCY: Federal Communications Commission.

ACTION: Final rule.

SUMMARY: The Audio Division grants a counterproposal filed by Waverly Radio Broadcasters by allotting Channel 232A at Waverly, Alabama, as the community's first local aural transmission service. The reference coordinates for Channel 232A at Waverly, Alabama are 32-42-28 NL and 85-29-27 WL. This allotment requires a site restriction of 8.7 kilometers (5.4 miles) east of Waverly. To accommodate the allotment, Station WSTR(FM) Channel 231C at Smyrna, Georgia, was downgraded to Channel 231C0 at its existing transmitter site. Additionally, the petition filed by Opelika Broadcasting Company, requesting the allotment of Channel 232A at Opelika, Alabama, as its second local FM transmission service was denied.

DATES: Effective February 26, 2007.

ADDRESSES: Federal Communications Commission, 445 Twelfth Street, SW., Washington, DC 20554.

FOR FURTHER INFORMATION CONTACT: Sharon P. McDonald, Media Bureau, (202) 418-2180.

SUPPLEMENTARY INFORMATION: This is a synopsis of the Commission's Report and Order, MB Docket No. 05-79, adopted January 10, 2007, and released January 12, 2007. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of the Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Alabama, is amended by adding Waverly, Channel 232A.

Federal Communications Commission.
John A. Karousos,
Assistant Chief, Audio Division, Media Bureau.

[FR Doc. E7-1523 Filed 1-30-07; 8:45 am]

BILLING CODE 6712-01-P